COMMITTEE FOR THE IMPLEMENTATION OF TEXTILE AGREEMENTS

Denial of Short Supply Request under the United States - Caribbean Basin Trade Partnership Act (CBTPA)

September 19, 2002.

AGENCY: The Committee for the Implementation of Textile Agreements (The Committee).

ACTION: Denial of the request alleging that certain 100 percent stock-dyed worsted wool woven fabric, used in the production of certain men's suits and suit jackets, cannot be supplied by the domestic industry in commercial quantities in a timely manner.

SUMMARY: On July 19, 2002, the Chairman of CITA received a request from Oxford Industries alleging that certain 100 percent worsted (i.e., combed) wool woven fabric, stock-dyed (not piece-dyed) of wool yarns with an average fiber diameter of more than 18.5 microns, classified in subheading 5112.19.95 of the Harmonized Tariff Schedule of the United States (HTSUS), for use in the production of men's suit type jackets for suits classified in subheading 6203.31.9010 of the HTSUS and men's suits classified in subheading 6203.11.9000 of the HTSUS, but excluding “morning dress”, “evening dress” and “dinner jacket suits” (as defined in Note 3(a) to Chapter 62 of the HTSUS), cannot be supplied by the domestic industry in commercial quantities in a timely manner. It requested that apparel of such fabrics be eligible for preferential treatment under the CBTPA. Based on the information provided and our knowledge of the industry, CITA has determined that these subject fabrics can be supplied by the domestic industry in commercial quantities in a timely manner and therefore denies the request.

FOR FURTHER INFORMATION CONTACT: For Further Information Contact: Shikha Bhatnagar, International Trade Specialist, Office of Textiles and Apparel, U.S. Department of Commerce, (202) 482-3400.

SUPPLEMENTARY INFORMATION:

Authority: Section 213(b)(2)(A)(v)(II) of the Caribbean Basin Economic Recovery Act, as added by Section 211(a) of the CBTPA; Section 6 of Executive Order No. 13191 of January 17, 2001.

BACKGROUND:

The CBTPA provides for quota- and duty-free treatment for qualifying textile and apparel products. Such treatment is generally limited to products manufactured from yarns or fabrics formed in the United States or a beneficiary country. The CBTPA also provides for quota- and duty-free treatment for apparel articles that are both cut (or knit-to-shape) and sewn or otherwise assembled in one or more CBTPA beneficiary countries from fabric or yarn that is not formed in the United States or a CBTPA beneficiary country, if it has been determined that such fabric or yarn cannot be supplied by the domestic industry in commercial quantities in a timely manner. In Executive Order No. 13191, the President delegated to CITA the authority to determine whether yarns or fabrics cannot be supplied by the domestic industry in commercial quantities in a timely manner under the CBTPA. On March 6, 2001, CITA published procedures that it will follow in considering requests. (66 FR 13502).

On July 19, 2002, the Chairman of CITA received a request from Oxford Industries alleging that certain 100 percent worsted (i.e., combed) wool woven fabric, stock-dyed (not piece-dyed) of wool yarns with an average fiber diameter of more than 18.5 microns, classified in subheading 5112.19.95 of the HTSUS, for use in the production of men's suit type jackets for suits classified in subheading 6203.31.9010 of HTSUS and men's suits classified in subheading 6203.11.9000 of the HTSUS, but excluding “morning dress”, “evening dress” and “dinner jacket suits” (as defined in Note 3(a) to Chapter 62 of the HTSUS), cannot be supplied by the domestic industry in commercial quantities in a timely manner. It requested that apparel of such fabrics that are both cut, sewn, and assembled in one or more CBTPA beneficiary countries be eligible for preferential treatment under the CBTPA.

On August 2, 2002, CITA solicited public comments regarding this request, particularly with respect to whether these fabrics can be supplied by the domestic industry and commercial quantities in a timely manner. We also requested the advice of the U.S. International Trade Commission and the relevant Industry Sector Advisory Committees. On August 20, 2002, CITA and the Office of the U.S. Trade Representative offered to hold consultations with the relevant Congressional Committees.

CITA has determined that certain 100 percent worsted (i.e., combed) wool woven fabric, stock-dyed (not piece-dyed) of wool yarns with an average fiber diameter of more than 18.5 microns, classified in subheading 5112.19.95 of the HTSUS, for use in the production of men's suit type jackets for suits classified in subheading 6203.31.9010 of HTSUS and men's suits classified in subheading 6203.11.9000 of the HTSUS, but excluding “morning dress”, “evening dress” and “dinner jacket suits” (as defined in Note 3(a) to Chapter 62 of the HTSUS), can be supplied by the domestic industry in commercial quantities in a timely manner. Based on the information provided, including review of the request, public comments and advice received, and our knowledge of the industry, CITA has determined that there is current production of and domestic capacity to supply these fabrics. Oxford Industries' request is denied.

James C. Leonard III,
Chairman, Committee for the Implementation of Textile Agreements.

[FR Doc.02-24317 Filed 9-24-02; 8:45 am]

BILLING CODE 3510-DR-S